DEPARTMENT OF TRANSPORTATION

Federal Aviation Administration

Aircraft Registration Status

AGENCY: Federal Aviation Administration (FAA), DOT.

ACTION: Notice.

SUMMARY: The Federal Aviation Administration's (FAA) electronic Aircraft Registration System will be augmented to reflect the observed status of an aircraft's certificate of registration.

EFFECTIVE DATE: June 20, 2003.

FOR FURTHER INFORMATION CONTACT: Walter Binkley, Manager, Aircraft Registration Branch (AFS-750), Mike Monroney Aeronautical Center, Federal Aviation Administration (AFS-750), Post Office Box 25504, Oklahoma City, OK 73125. Telephone (405) 954-3131.

SUPPLEMENTARY INFORMATION: Section 47.41(a) of the Federal Aviation Regulations (14 CFR part 47) enumerates circumstances under which a certificate of aircraft registration becomes ineffective. The most commonly observed event is receipt of information indicating the aircraft ownership has changed. The change of aircraft ownership renders the certificate of registration ineffective for operations (see 14 CFR 91.203(a)(2)). The FAA believes it is in the interest of national security, safety, and accuracy that the Aircraft Registration System reflect the observed status of an aircraft's registration.

On the effective date stated herein, aircraft records containing information that would render a certificate of registration ineffective if true, will be changed to reflect a status of “In Question”.

Such status is informational in nature and should not be construed as a legal determination that the certificate of registration is ineffective.

Issued in Oklahoma City, OK on June 13, 2003.
Mark Lash,
Manager, Civil Aviation Registry.

[FR Doc. 03-15673 Filed 6-20-03; 8:45 am]

BILLING CODE 4910-13-M